ENVIRONMENTAL PROTECTION AGENCY

[EPA-HQ-OPPT-2011-0437; FRL-8879-3]

Sixty-Eighth Report of the TSCA Interagency Testing Committee to the Administrator of the Environmental Protection Agency; Receipt of Report and Request for Comments

AGENCY: Environmental Protection Agency (EPA).

ACTION: Notice.

SUMMARY: The Toxic Substances Control Act (TSCA) Interagency Testing Committee (ITC) transmitted its Sixty-Eighth Report to the Administrator of EPA on June 14, 2011. In the 68th ITC Report, which is included with this notice, the ITC is adding cadmium and 103 cadmium compounds to TSCA section 4(e) Priority Testing List. During this reporting period (December 2010 to May 2011), the ITC is also removing 29 High Production Volume (HPV) Challenge Program orphan chemicals and lead and 11 lead compounds from the Priority Testing List.

DATES: Comments must be received on or before August 31, 2011.

ADDRESSES: Submit your comments, identified by docket identification (ID) number EPA-HQ-OPPT-2011-0437, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2011-0437. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2011-0437. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: John D. Walker, Interagency Testing Committee (7401M), Office of Pollution Prevention and Toxics, Environmental Protection Agency, 1200 Pennsylvania Ave., NW., Washington, DC 20460-0001; telephone number: (202) 564-7527; fax number: (202) 564-7528; e-mail address: walker,johnd@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this action apply to me?

This notice is directed to the public in general. It may, however, be of particular interest to you if you manufacture (defined by statute to include import) and/or process TSCA-covered chemicals and you may be identified by the North American Industrial Classification System (NAICS) codes 325 and 32411. Because this notice is directed to the general public and other entities may also be interested, the Agency has not attempted to describe all the specific entities that may be interested in this action. If you have any questions regarding the applicability of this action to a particular entity, consult the technical person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

The Toxic Substances Control Act (TSCA) (15 U.S.C. 260l et seq.) authorizes the Administrator of EPA to promulgate regulations under TSCA section 4(a) requiring testing of chemicals and chemical groups in order to develop data relevant to determining the risks that such chemicals and chemical groups may present to health or the environment. Section 4(e) of TSCA established the ITC to recommend chemicals and chemical groups to the Administrator of EPA for priority testing consideration. Section 4(e) of TSCA directs the ITC to revise the TSCA section 4(e) Priority Testing List at least every 6 months.

You may access additional information about the ITC at http://www.epa.gov/opptintr/itc.

A. The 68th ITC Report

The ITC is adding cadmium and 103 cadmium compounds to the TSCA section 4(e) Priority Testing List. During this reporting period (December 2010 to May 2011), the ITC is also removing 29 HPV Challenge Program orphan chemicals and lead and 11 lead compounds from the Priority Testing List.

B. Status of the Priority Testing List

The Priority Testing List includes 2 alkylphenols, 16 chemicals with insufficient dermal absorption rate data, 178 HPV Challenge Program orphan chemicals, and cadmium and 103 cadmium compounds.

List of Subjects

Environmental protection, Chemicals, Hazardous substances.

Dated: July 25, 2011.
Wendy C. Hamnett,
Director, Office of Pollution Prevention and Toxics.

Sixty-Eighth Report of the TSCA Interagency Testing Committee to the Administrator of the Environmental Protection Agency

Table of Contents

Summary

I. Background

II. TSCA Section 8 Reporting

A. TSCA Section 8 Reporting Rules

B. ITC's Use of TSCA Section 8 and Other Information

C. New Request to Add Chemicals to the TSCA Section 8(d) HaSDR Rule

III. ITC's Activities During this Reporting Period (December 2010 to May 2011)

IV. Revisions to the TSCA Section 4(e) Priority Testing List

A. Chemicals Added to the Priority Testing List: Cadmium and Cadmium Compounds

B. Chemicals Removed from the Priority Testing List

1. HPV Challenge Program orphan chemicals

2. Lead and lead compounds

V. References

VI. The TSCA Interagency Testing Committee

Summary

The ITC is adding cadmium and 103 cadmium compounds to the Toxic Substances Control Act (TSCA) section 4(e) Priority Testing List during this reporting period (December 2010 to May 2011). In addition, the ITC is removing 29 HPV Challenge Program orphan chemicals, lead and 11 lead compounds from the Priority Testing List during this reporting period.

The TSCA section 4(e) Priority Testing List is Table 1 of this unit.

Table 1—TSCA Section 4(e) Priority Testing List (May 2011)
ITC Report No. | Date | Chemical name/group | Action
31 | January 1993 | 2 Chemicals with insufficient dermal absorption rate data, methylcyclohexane and cyclopentane | Designated.
32 | May 1993 | 10 Chemicals with insufficient dermal absorption rate data | Designated.
35 | November 1994 | 4 Chemicals with insufficient dermal absorption rate data, cyclopentadiene, formamide, 1,2,3-trichloropropane and m-nitrotoluene | Designated.
37 | November 1995 | Branched 4-nonylphenol (mixed isomers) | Recommended.
41 | November 1997 | Phenol, 4-(1,1,3,3-tetramethylbutyl)- | Recommended.
55 | December 2004 | 175 High Production Volume (HPV) Challenge Program orphan chemicals | Recommended.
56 | August 2005 | 3 HPV Challenge Program orphan chemicals | Recommended.
68 | May 2011 | Cadmium and 103 cadmium compounds | Recommended.

I. Background

The ITC was established by TSCA section 4(e) “to make recommendations to the Administrator respecting the chemical substances and mixtures to which the Administrator should give priority consideration for the promulgation of rules for testing under section 4(a)* * *. At least every six months * * *, the Committee shall make such revisions to the Priority Testing List as it determines to be necessary and transmit them to the Administrator together with the Committee's reasons for the revisions” (Pub. L. 94-469, 90 Stat. 2003 et seq., 15 U.S.C. 2601 et seq.). ITC reports are available from regulations.gov (http://www.regulations.gov) after publication in the Federal Register. The ITC produces its revisions to the Priority Testing List with administrative and technical support from the ITC staff, ITC members, and their U.S. Government organizations, and contract support provided by EPA. ITC members and staff are listed at the end of this report.

II. TSCA Section 8 Reporting

A. TSCA Section 8 Reporting Rules

Following receipt of the ITC's report (and the revised Priority Testing List) by the EPA Administrator, the EPA's Office of Pollution Prevention and Toxics (OPPT) may add the chemicals from the revised Priority Testing List to the TSCA section 8(a) Preliminary Assessment Information Reporting (PAIR) or the TSCA section 8(d) Health and Safety Data Reporting (HaSDR) rules. The PAIR rule requires manufacturers (including importers) of chemicals added to the Priority Testing List to submit to EPA certain production and exposure information (http://www.epa.gov/oppt/chemtest/pubs/pairform.pdf). The HaSDR rule requires manufacturers (including importers) of chemicals added to the Priority Testing List to submit unpublished health and safety studies to EPA.

B. ITC's Use of TSCA Section 8 and Other Information

The ITC's use of TSCA section 8 and other information is described in the ITC's 52nd Report (Ref. 1).

C. New Request To Add Chemicals to the TSCA Section 8(d) HaSDR Rule

The ITC is requesting that EPA add the category of cadmium and cadmium compounds, including specifically cadmium and 103 cadmium compounds to the TSCA section 8(d) HaSDR rule. Cadmium and cadmium compounds are discussed in Unit IV. of this report.

III. ITC's Activities During This Reporting Period (December 2010 to May 2011)

During this reporting period, the ITC discussed the draft TSCA section 4 proposed test rule, draft TSCA section 8(a) proposed reporting rule, and draft proposed TSCA section 5(a) Significant New Use Rule for nanoscale materials. In addition, the ITC discussed adding cadmium and cadmium compounds to the Priority Testing List and removing HPV Challenge Program orphan chemicals and lead and lead compounds from the Priority Testing List.

IV. Revisions to the TSCA Section 4(e) Priority Testing List

A. Chemicals Added to the Priority Testing List: Cadmium and Cadmium Compounds

1. Recommendation. EPA requests that the ITC add the category “cadmium and cadmium compounds” to the Priority Testing List to obtain use and exposure information on cadmium and cadmium compounds that are present in any consumer product.

Required information would be limited to unpublished health and safety studies, including those relating to the cadmium content in consumer products containing cadmium or cadmium compounds, and/or studies that assess exposure to cadmium or cadmium compounds from such products. Exposure studies include any studies providing information about the solubility, bioavailability, and duration of exposure to cadmium or cadmium compounds from product use.

2. Rationale for recommendation. EPA and the Consumer Product Safety Commission (CPSC) are concerned with the content of cadmium or cadmium compounds in certain children's toys, jewelry, and other consumer products due to known toxicity and health concerns from exposure to cadmium or cadmium compounds. CPSC and EPA have limited health and safety studies on the content of cadmium or cadmium compounds in consumer products. EPA is recommending that the ITC include the category listing for cadmium and cadmium compounds described in this unit. This will provide both EPA and CPSC with a streamlined means of obtaining studies. Information obtained on this category may assist both EPA and CPSC in taking further action as appropriate to protect consumers from exposure to cadmium or cadmium compounds in consumer products.

3. Supporting information. The acute (short-term) effects of cadmium in humans through inhalation exposure consist mainly of effects on the lung, such as pulmonary irritation. Chronic (long-term) inhalation or oral exposure to cadmium leads to a build-up of cadmium in the kidneys that can cause kidney disease.

Cadmium has been shown to be a developmental toxicant in animals, resulting in fetal malformations and other effects, but no conclusive evidence exists in humans. Animal studies have demonstrated an increase in lung cancer from long-term inhalation exposure to cadmium.¹ EPA has classified cadmium as a Group B1, probable human carcinogen (http://epa.gov/ttn/atw/hlthef/cadmium.html).

¹ ATSDR Toxicological Profile for Cadmium (Draft). Agency for Toxic Substances and Disease Registry. U.S. Department of Health and Human Services. 2008. Available on-line at: http://www.atsdr.cdc.gov/substances/toxsubstance.asp?toxid=15.

Cadmium has been found in certain consumer products: In 2010, CPSC found the amount of cadmium in samples of children's metal jewelry ranged from about 0.03 to 99% by weight. CPSC also assessed potential exposures to cadmium by extraction testing, including using an acid solution to simulate the effect of stomach acid. The CPSC Staff found that potential exposure to cadmium would exceed the acceptable daily intake levels for acute exposure to a child. CPSC recalled 26 items of jewelry in 4 separate recalls and issued a warning about 2 additional jewelry items.² Cadmium was also found in the paint on glassware. CPSC issued a voluntary recall of 12 million “Shrek” movie themed collectable drinking glasses.³

² CPSC. Staff Briefing Package. Petition HP 10-2. Requesting Restriction of Cadmium in Toy Jewelry Consumer Product Safety Commission. February 9, 2011. Staff Report, Cadmium in Children's Metal Jewelry. Toxicity Review of Cadmium. TAB B pp. 19-39. October 14, 2010. Available on-line at: http://www.cpsc.gov/library/foia/foia11/brief/cadmiumpet.pdf.

³ McDonald's Recalls Movie Themed Drinking Glasses Due to Potential Cadmium Risk. Available on-line at: http://www.cpsc.gov/CPSCPUB/PREREL/prhtml10/10257.html. Last visited March 4, 2011.

Due to the potential health effects of exposure to cadmium or cadmium compounds, EPA and CPSC are concerned about the possible presence and bioavailability of cadmium or cadmium compounds in consumer products generally. However, neither CPSC nor EPA currently has complete information for assessing the safety of any other consumer products that may contain cadmium or cadmium compounds.

4. Information needs. EPA needs health and safety studies for assessing the extent and degree of exposure and potential hazard associated with these substances including: Epidemiological or clinical studies, occupational exposure and health effects studies, ecological effects studies, and environmental fate studies (including relevant physical chemical properties).

Specifically EPA needs studies about the total amount of cadmium or cadmium compounds contained in a product, the solubility and bioavailability of cadmium or cadmium compounds (including accessibility of cadmium or cadmium compounds to children and studies of the age and foreseeable behavior of children exposed to a product for children and/or children's toys), the foreseeable duration and route of potential cadmium or cadmium compounds exposure through contact with products, and studies on the marketing, patterns of use, and lifecycle of cadmium-containing products.

Table 2—Cadmium and Cadmium Compounds Being Added to the Priority Testing List
CAS No. | Cadmium and cadmium compounds
506-82-1 | Cadmium, dimethyl-
513-78-0 | Carbonic acid, cadmium salt (1:1)
542-83-6 | Cadmium cyanide (Cd(CN)2)
543-90-8 | Acetic acid, cadmium salt (2:1)
592-02-9 | Cadmium, diethyl-
1306-19-0 | Cadmium oxide (CdO)
1306-23-6 | Cadmium sulfide (CdS)
1306-24-7 | Cadmium selenide (CdSe)
1306-25-8 | Cadmium telluride (CdTe)
2191-10-8 | Octanoic acid, cadmium salt (2:1)
2223-93-0 | Octadecanoic acid, cadmium salt (2:1)
2420-97-5 | Benzoic acid, 4-methyl-, cadmium salt (2:1)
2420-98-6 | Hexanoic acid, 2-ethyl-, cadmium salt (2:1)
2847-16-7 | Decanoic acid, cadmium salt (2:1)
3026-22-0 | Benzoic acid, cadmium salt (2:1)
4167-05-9 | Benzoic acid, 4-(1,1-dimethylethyl)-, cadmium salt (2:1)
4464-23-7 | Formic acid, cadmium salt
5112-16-3 | Nonanoic acid, cadmium salt (2:1)
6427-86-7 | Hexadecanoic acid, cadmium salt (2:1)
7440-43-9 | Cadmium
7789-42-6 | Cadmium bromide (CdBr2)
7790-79-6 | Cadmium fluoride (CdF2)
7790-80-9 | Cadmium iodide (CdI2)
7790-85-4 | Cadmium tungsten oxide (CdWO4)
10108-64-2 | Cadmium chloride (CdCl2)
10124-36-4 | Sulfuric acid, cadmium salt (1:1)
10196-67-5 | Tetradecanoic acid, cadmium salt (2:1)
10325-94-7 | Nitric acid, cadmium salt (2:1)
10326-28-0 | Perchloric acid, cadmium salt, hexahydrate
10468-30-1 | 9-Octadecenoic acid (9Z)-, cadmium salt (2:1)
12006-15-4 | Cadmium arsenide (Cd3As2)
12014-28-7 | Cadmium phosphide (Cd3P2)
12014-29-8 | Antimony, compd. with cadmium (2:3)
12139-22-9 | Cadmium peroxide (Cd(O2))
12139-23-0 | Cadmium zirconium oxide (CdZrO3)
12185-64-7 | Cadmium chloride phosphate (Cd5Cl(PO4)3)
12187-14-3 | Cadmium niobium oxide (Cd2Nb2O7)
12292-07-8 | Cadmium tantalum oxide (CdTa2O6)
12442-27-2 | Cadmium zinc sulfide ((Cd,Zn)S)
12626-36-7 | Cadmium selenide sulfide (Cd(Se,S))
13477-17-3 | Phosphoric acid, cadmium salt (2:3)
13477-19-5 | Silicic acid (H2SiO3), cadmium salt (1:1)
13814-59-0 | Selenious acid, cadmium salt (1:1)
13847-17-1 | Phosphoric acid, cadmium salt (1:?)
14017-36-8 | Sulfamic acid, cadmium salt (2:1)
14486-19-2 | Borate(1-), tetrafluoro-, cadmium (2:1)
14520-70-8 | Phosphoric acid, ammonium cadmium salt (1:1:1)
15600-62-1 | Diphosphoric acid, cadmium salt (1:2)
15851-44-2 | Telluric acid (H2TeO3), cadmium salt (1:1)
15852-14-9 | Telluric acid (H2TeO4), cadmium salt (1:1)
16056-72-7 | Cadmium vanadium oxide (CdV2O6)
19262-93-2 | Diphosphoric acid, cadmium salt (1:?)
21041-95-2 | Cadmium hydroxide (Cd(OH)2)
27476-27-3 | Benzoic acid, methyl-, cadmium salt (2:1)
29870-72-2 | Cadmium mercury telluride ((Cd,Hg)Te)
34303-23-6 | Docosanoic acid, cadmium salt (2:1)
51222-60-7 | Boric acid, cadmium salt
52337-78-7 | Benzoic acid, 2-methyl-, cadmium salt (2:1)
61789-34-2 | Naphthenic acids, cadmium salts
68092-45-5 | Benzoic acid, 3-methyl-, cadmium salt (2:1)
68131-58-8 | Fatty acids, C10-18, cadmium salts
68131-59-9 | Fatty acids, C12-18, cadmium salts
68332-81-0 | Cadmium zinc sulfide ((Cd,Zn)S), copper and lead-doped
68409-82-5 | Fatty acids, C14-18, cadmium salts
68478-53-5 | Cadmium, benzoate p-tert-butylbenzoate complexes
68479-13-0 | Pyrochlore, bismuth cadmium ruthenium
68512-49-2 | Cadmium zinc sulfide ((Cd,Zn)S), copper chloride-doped
68512-50-5 | Cadmium zinc sulfide ((Cd,Zn)S), copper and manganese-doped
68512-51-6 | Cadmium zinc sulfide ((Cd,Zn)S), aluminum and copper-doped
68583-43-7 | Cadmium zinc sulfide ((Cd,Zn)S), copper and silver-doped
68583-44-8 | Cadmium zinc sulfide ((Cd,Zn)S), nickel and silver-doped
68583-45-9 | Cadmium zinc sulfide ((Cd,Zn)S), silver chloride-doped
68584-41-8 | Cadmium zinc sulfide ((Cd,Zn)S), aluminum and silver-doped
68584-42-9 | Cadmium zinc sulfide ((Cd,Zn)S), copper and nickel-doped
68784-10-1 | Cadmium zinc sulfide ((Cd,Zn)S), aluminum and cobalt and copper and silver-doped
68784-55-4 | Barium cadmium calcium chloride fluoride phosphate, antimony and manganese-doped
68784-58-7 | Cadmium borate oxide (Cd3(BO2)4O), manganese-doped
68855-80-1 | Fatty acids, tall-oil, cadmium salts
68876-84-6 | Fatty acids, C8-18 and C18-unsatd., cadmium salts
68876-90-4 | Barium cadmium zinc sulfide (Ba2(Cd,Zn)S3), manganese-doped
68876-98-2 | Cadmium sulfide (CdS), aluminum and copper-doped
68876-99-3 | Cadmium sulfide (CdS), aluminum and silver-doped
68877-00-9 | Cadmium sulfide (CdS), copper chloride-doped
68877-01-0 | Cadmium sulfide (CdS), silver chloride-doped
68891-87-2 | Cadmium sulfide (CdS), copper and lead-doped
68953-39-9 | Fatty acids, tallow, hydrogenated, cadmium salts
68954-18-7 | Cadmium, laurate palmitate stearate complexes
68956-81-0 | Resin acids and Rosin acids, cadmium salts
69011-66-1 | Bismuth alloy, nonbase, Bi,Cd, dross
69011-67-2 | Bismuth alloy, nonbase, Bi,Cd,In, dross
69011-69-4 | Cadmium, dross
69011-70-7 | Cadmium, sponge
69012-57-3 | Flue dust, cadmium-refining
69029-63-6 | Calcines, cadmium residue
69029-70-5 | Leach residues, cadmium-refining
69029-77-2 | Residues, cadmium-refining
70084-75-2 | Fatty acids, C12-18, barium cadmium salts
71243-75-9 | Cadmium selenide sulfide (CdSe0.53S0.47)
72828-62-7 | Zircon, cadmium red
72869-26-2 | Cadmium zinc sulfide ((Cd,Zn)S), cobalt and copper-doped
72869-63-7 | Fatty acids, coco, cadmium salts
72968-34-4 | Zircon, cadmium yellow
93894-08-7 | Phenol, 4-nonyl-, cadmium salt (2:1)
135742-32-4 | Fatty acids, C6-12, cadmium salts

B. Chemicals Removed From the Priority Testing List

1. HPV Challenge Program orphan chemicals. Two hundred seventy (270) HPV Challenge Program orphan chemicals were added to the Priority Testing List in the 55th ITC Report (Ref. 2) and 5 were added to the Priority Testing List in the 56th ITC Report (Ref. 3).

Thirty (30) HPV Challenge Program orphan chemicals were removed from the Priority Testing List in the 56th ITC Report. Eight (8) HPV Challenge Program orphan chemicals were removed from the Priority Testing List in the 58th ITC Report (Ref. 4). Thirty-five (35) HPV Challenge Program orphan chemicals were removed from the Priority Testing List in the 61st ITC Report (Ref. 5). One HPV Challenge Program Orphan chemical was removed from the Priority Testing List in the 63rd ITC Report (Ref. 6).

In this ITC report 29 HPV Challenge Program orphan chemicals are being removed from the Priority Testing List because they were included in the EPA's TSCA section 4 proposed test rule (Ref. 7). (See Table 3 of this unit.)

Table 3—Twenty-Nine HPV Challenge Program Orphan Chemicals Being Removed From the Priority Testing List
CAS No. | Chemical name
83-41-0 | Benzene, 1,2-dimethyl-3-nitro-
96-22-0 | 3-Pentanone
98-09-9 | Benzenesulfonyl chloride
98-56-6 | Benzene, 1-chloro-4-(trifluoromethyl)-
111-44-4 | Ethane, 1,1′-oxybis[2-chloro-]
127-68-4 | Benzenesulfonic acid, 3-nitro-, sodium salt (1:1)
506-51-4 | 1-Tetracosanol
506-52-5 | 1-Hexacosanol
515-40-2 | Benzene, (2-chloro-1,1-dimethylethyl)-
2494-89-5 | Ethanol, 2-[(4-aminophenyl)sulfonyl]-, 1-(hydrogen sulfate)
5026-74-4 | 2-Oxiranemethanamine, N-[4-(2-oxiranylmethoxy)phenyl]-N-(2-oxiranylmethyl)-
22527-63-5 | Propanoic acid, 2-methyl-, 3-(benzoyloxy)-2,2,4-trimethylpentyl ester
24615-84-7 | 2-Propenoic acid, 2-carboxyethyl ester
25321-41-9 | Benzenesulfonic acid, dimethyl-
25646-71-3 | Methanesulfonamide, N-[2-[(4-amino-3-methylphenyl)ethylamino] ethyl]-, sulfate (2:3)
52556-42-0 | 1-Propanesulfonic acid, 2-hydroxy-3-(2-propen-1-yloxy)-, sodium salt (1:1)
61788-76-9 | Alkanes, chloro
65996-79-4 | Solvent naphtha (coal)
65996-82-9 | Tar oils, coal
65996-89-6 | Tar, coal, high-temp.
65996-92-1 | Distillates (coal tar)
68082-78-0 | Lard, oil, Me esters
68187-57-5 | Pitch, coal tar-petroleum
68442-60-4 | Acetaldehyde, reaction products with formaldehyde, by-products from
68610-90-2 | 2-Butenedioic acid (2E)-, di-C8-18-alkyl esters
68988-22-7 | 1,4-Benzenedicarboxylic acid, 1,4-dimethyl ester, manuf. of, by-products from
70693-50-4 | Phenol, 2,4-bis(1-methyl-1-phenylethyl)-6-[2-(2-nitrophenyl)diazenyl]-
72162-15-3 | 1-Decene, sulfurized
73665-18-6 | Extract residues (coal), tar oil alk., naphthalene distn. residues

2. Lead and lead compounds. Lead and lead compounds were added to the Priority Testing List in the ITC's 60th Report to obtain unpublished health and safety studies that relate to the lead content of consumer products that are “intended for use by children” and studies that assess children's exposure to lead from such products (Ref. 8). At this time the ITC is removing lead and lead compounds from the Priority Testing List because the EPA has reviewed the unpublished health and safety studies submitted in response to the TSCA section 8(d) HaSDR rule (Ref. 9).

Table 4—Lead and Lead Compounds Being Removed From the Priority Testing List
CAS No. | Chemical Name
301-04-2 | Acetic acid, lead(2+) salt (2:1)
598-63-0 | Carbonic acid, lead(2+) salt (1:1)
1309-60-0 | Lead oxide (PbO2)
1314-87-0 | Lead sulfide (PbS)
7428-48-0 | Octadecanoic acid, lead salt (1:?)
7439-92-1 | Lead
7446-27-7 | Phosphoric acid, lead(2+) salt (2:3)
7758-95-4 | Lead chloride (PbCl2)
7758-97-6 | Chromic acid (H2CrO4), lead(2+) salt (1:1)
13814-96-5 | Borate(1-), tetrafluoro-, lead(2+) (2:1)
53466-66-3 | Silicic acid, lead salt, basic
63653-42-9 | Sulfuric acid, lead salt (1:?), basic

V. References

1. ITC. Fifty-Second Report of the ITC; Notice. Federal Register (68 FR 43608, July 23, 2003) (FRL-7314-4). Available on-line at: http://www.gpoaccess.gov/fr.

2. ITC. Fifty-Fifth Report of the ITC; Notice. Federal Register (70 FR 7364, February 11, 2005) (FRL-7692-1). Available on-line at: http://www.gpoaccess.gov/fr.

3. ITC. Fifty-Sixth Report of the ITC; Notice. Federal Register (70 FR 61520, October 24, 2005) (FRL-7739-9). Available on-line at: http://www.gpoaccess.gov/fr.

4. ITC. Fifty-Eighth Report of the ITC; Notice. Federal Register (71 FR 39188, July 11, 2006) (FRL-8073-7). Available on-line at: http://www.gpoaccess.gov/fr.

5. ITC. Sixty-First Report of the ITC; Notice. Federal Register (73 FR 5080, January 28, 2008) (FRL-8347-1). Available on-line at: http://www.gpoaccess.gov/fr.

6. ITC. Sixty-Third Report of the ITC; Notice. Federal Register (73 FR 65486, November 3, 2008) (FRL-8387-6). Available on-line at: http://www.gpoaccess.gov/fr.

7. EPA. Testing of Certain High Production Volume Chemicals; Third Group of Chemicals; Proposed rule. Federal Register (75 FR 8575, February 25, 2010) (FRL-8805-8). Available on-line at: http://www.gpoaccess.gov/fr.

8. ITC. Sixtieth Report of the ITC; Notice. Federal Register (72 FR 41414, July 27, 2007) (FRL-8137-6). Available online at: http://www.gpoaccess.gov/fr.

9. EPA. Health and Safety Data Reporting; Addition of Certain Chemicals; Final rule. Federal Register (73 FR 5109, January 29, 2008) (FRL-8154-2). Available on-line at: http://www.gpoaccess.gov/fr.

VI. The TSCA Interagency Testing Committee

Statutory Organizations and Their Representatives

Council on Environmental Quality

Vacant.

Department of Commerce

National Institute of Standards and Technology

Dianne L. Poster, Alternate.

National Oceanographic and Atmospheric Administration

Kimani Kimbrough, Member.

Anthony S. Pait, Alternate.

Environmental Protection Agency

Robert W. Jones, Member.

John E. Schaeffer, Alternate.

National Cancer Institute

Vacant.

National Institute of Environmental Health Sciences

Nigel Walker, Member.

Scott Masten, Alternate.

National Institute for Occupational Safety and Health

Gayle DeBord, Member.

Dennis W. Lynch, Alternate.

National Science Foundation

Vacant.

Occupational Safety and Health Administration

Thomas Nerad, Member, Chair.

Liaison Organizations and Their Representatives

Agency for Toxic Substances and Disease Registry

Daphne Moffett, Member.

Glenn D. Todd, Alternate.

Consumer Product Safety Commission

Dominique Williams, Member.

Department of Agriculture

Clifford P. Rice, Member, Vice-Chair.

Laura L. McConnell, Alternate.

Department of Defense

Laurie E. Roszell, Member.

Department of the Interior

Barnett A. Rattner, Member.

Food and Drug Administration

Kirk Arvidson, Member.

Ronald F. Chanderbhan, Alternate.

ITC Staff

John D. Walker, Director.

Carol Savage, Administrative Assistant (NOWCC Employee).

TSCA Interagency Testing Committee (7401M), Office of Pollution Prevention and Toxics, Environmental Protection Agency, 1200 Pennsylvania Ave., NW., Washington, DC 20460-0001; e-mail address: savage.carol@epa.gov; url: http://www.epa.gov/opptintr/itc.

[FR Doc. 2011-19414 Filed 7-29-11; 8:45 am]

BILLING CODE 6560-50-P